DEPARTMENT OF TRANSPORTATION

Federal Aviation Administration

14 CFR Part 39

[Docket No. FAA-2023-0028; Project Identifier MCAI-2022-01164-T; Amendment 39-22404; AD 2023-07-02]

RIN 2120-AA64

Airworthiness Directives; Airbus SAS Airplanes

AGENCY: Federal Aviation Administration (FAA), DOT.

ACTION: Final rule.

SUMMARY: The FAA is superseding Airworthiness Directive (AD) 2022-03-12, which applied to all Airbus SAS Model A330-200, -300, -800, and -900 series airplanes; and Model A340-200, -300, -500, and -600 series airplanes. AD 2022-03-12 required replacing the doghouse door lock placard with an improved instruction placard. This AD was prompted by reports that the instructions on the doghouse door lock placard are unclear and incomplete, and by a determination that additional parts need to be modified. This AD continues to require the actions in AD 2022-03-12 and expands the list of affected parts, as specified in a European Union Aviation Safety Agency (EASA) AD, which is incorporated by reference. This AD also prohibits the installation of affected parts under certain conditions. The FAA is issuing this AD to address the unsafe condition on these products.

DATES: This AD is effective May 30, 2023.

The Director of the Federal Register approved the incorporation by reference of a certain publication listed in this AD as of May 30, 2023.

ADDRESSES:

AD Docket: You may examine the AD docket at regulations.gov under Docket No. FAA-2023-0028; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2023-0028.

FOR FURTHER INFORMATION CONTACT: Vladimir Ulyanov, Aerospace Engineer, Large Aircraft Section, FAA, International Validation Branch, 2200 South 216th St., Des Moines, WA 98198; telephone and fax 206-231-3229; email vladimir.ulyanov@faa.gov.

SUPPLEMENTARY INFORMATION:

Background

The FAA issued a notice of proposed rulemaking (NPRM) to amend 14 CFR part 39 to supersede AD 2022-03-12, Amendment 39-21929 (87 FR 8169, February 14, 2022) (AD 2022-03-12). AD 2022-03-12 applied to all Airbus SAS Model A330-200, -300, -800, and -900 series airplanes; and Model A340-200, -300, -500, and -600 series. AD 2022-03-12 required replacing the doghouse door lock placard with an improved instruction placard. AD 2022-03-12 also prohibited the installation of affected parts under certain conditions. The FAA issued AD 2022-03-12 to address possible incorrect operation of the doghouse door lock due to unclear and incomplete handling instructions on the door placard installed near the lock. This condition, if not addressed, could lead to failure of the latch, which could block the door in the closed position and prevent access to the emergency equipment inside the doghouse.

The NPRM published in the Federal Register on January 30, 2023 (88 FR 5814). The NPRM was prompted by AD 2022-0179, dated August 26, 2022, issued by EASA, which is the Technical Agent for the Member States of the European Union (EASA AD 2022-0179) (also referred to as the MCAI). The MCAI states that the instructions on the doghouse door lock placard are unclear and incomplete, and could lead to incorrect operation of the lock. This condition, if not corrected, could lead to failure of the latch, blocking the door in the closed position and preventing access to emergency equipment, possibly resulting in injury to airplane occupants. Since EASA AD 2021-0136 was issued, it has been determined that additional parts need to be modified.

You may examine the MCAI in the AD docket at regulations.gov under Docket No. FAA-2023-0028.

In the NPRM, the FAA proposed to continue to require the actions in AD 2022-03-12 and expand the list of affected parts, as specified in EASA AD 2022-0179, dated August 26, 2022. The NPRM also proposed to prohibit the installation of affected parts under certain conditions. The FAA is issuing this AD to address possible incorrect operation of the doghouse door lock due to unclear and incomplete handling instructions on the door placard installed near the lock. The unsafe condition, if not addressed, could result in failure of the latch, which could block the door in the closed position and prevent access to the emergency equipment inside the doghouse.

Discussion of Final Airworthiness Directive

Comments

The FAA received no comments on the NPRM or on the determination of the cost to the public.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Related Service Information Under 1 CFR Part 51

EASA AD 2022-0179 specifies procedures for replacing the doghouse door lock placard with an improved instruction placard. EASA AD 2022-0179 also prohibits the installation of doghouses with incorrect instruction placards. This material is reasonably available because the interested parties have access to it through their normal course of business or by the means identified in the ADDRESSES section.

Costs of Compliance

The FAA estimates that this AD affects 62 airplanes of U.S. registry. The FAA estimates the following costs to comply with this AD:

Estimated Costs for Required Actions
Labor cost | Parts cost | Cost per product | Cost on U.S. operators
2 work-hours × $85 per hour = $170 | Up to $95 per placard | Up to $265 per placard | Up to $16,430.*
* Assuming one placard per product. The number of placards on an airplane depends on the passenger configuration and varies from operator to operator.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-03-12, Amendment 39-21929 (87 FR 8169, February 14, 2022); and

b. Adding the following new AD:

2023-07-02 Airbus SAS: Amendment 39-22404; Docket No. FAA-2023-0028; Project Identifier MCAI-2022-01164-T.

(a) Effective Date

This airworthiness directive (AD) is effective May 30, 2023.

(b) Affected ADs

This AD replaces AD 2022-03-12, Amendment 39-21929 (87 FR 8169, February 14, 2022) (AD 2022-03-12).

(c) Applicability

This AD applies to all Airbus SAS airplanes, certificated in any category, as identified in paragraphs (c)(1) through (8) of this AD.

(1) Model A330-201, -202, -203, -223, and -243 airplanes.

(2) Model A330-301, -302, -303, -321, -322, -323, -341, -342, and -343 airplanes.

(3) Model A330-841 airplanes.

(4) Model A330-941 airplanes.

(5) Model A340-211, -212, and -213 airplanes.

(6) Model A340-311, -312, and -313 airplanes.

(7) Model A340-541 airplanes.

(8) Model A340-642 airplanes.

(d) Subject

Air Transport Association (ATA) of America Code 25, Equipment/furnishings.

(e) Unsafe Condition

This AD was prompted by reports that the instructions on the doghouse door lock placard are unclear and incomplete, and by a determination that additional parts need to be modified. The FAA is issuing this AD to address possible incorrect operation of the doghouse door lock due to unclear and incomplete handling instructions on the door placard installed near the lock. The unsafe condition, if not addressed, could result in failure of the latch, which could block the door in the closed position and prevent access to the emergency equipment inside the doghouse.

(f) Compliance

Comply with this AD within the compliance times specified, unless already done.

(g) Requirements

Except as specified in paragraph (h) of this AD: Comply with all required actions and compliance times specified in, and in accordance with, European Union Aviation Safety Agency (EASA) AD 2022-0179, dated August 26, 2022 (EASA AD 2022-0179).

(h) Exceptions to EASA AD 2022-0179

(1) Where EASA AD 2022-0179 refers to June 18, 2021 (the effective date of EASA AD 2021-0136), this AD requires using March 21, 2022 (the effective date of AD 2022-03-12).

(2) Where EASA AD 2022-0179 refers to its effective date, this AD requires using the effective date of this AD.

(3) Although EASA AD 2022-0179 specifies to “remove the placard and install an improved handling instructions placard on each affected part,” this AD requires replacing the placard on each affected part with an improved handling instructions placard.

(4) This AD does not adopt the “Remarks” section of EASA AD 2022-0179.

(i) Additional FAA AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Vladimir Ulyanov, Aerospace Engineer, Large Aircraft Section, FAA, International Validation Branch, 2200 South 216th St., Des Moines, WA 98198; telephone and fax 206-231-3229; email vladimir.ulyanov@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2022-0179, dated August 26, 2022.

(ii) [Reserved]

(3) For EASA AD 2022-0179, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on March 30, 2023.
Christina Underwood,
Acting Director, Compliance & Airworthiness Division, Aircraft Certification Service.

[FR Doc. 2023-08529 Filed 4-21-23; 8:45 am]

BILLING CODE 4910-13-P